UNITED STATES SENTENCING COMMISSION

Sentencing Guidelines for United States Courts

AGENCY: United States Sentencing Commission.

ACTION: Notice of final action regarding amendments to federal sentencing guidelines effective November 1, 2005.

SUMMARY: On April 29, 2005, the Commission submitted to Congress amendments to the federal sentencing guidelines. (See 70 FR 24852, May 11, 2005). The Commission has made technical and conforming amendments to commentary provisions related to those amendments. The Commission hereby gives notice of these commentary amendments.

DATES: The Commission has specified an effective date of November 1, 2005, for the amendments set forth in this notice.

FOR FURTHER INFORMATION CONTACT: Michael Courlander, Public Affairs Officer, Telephone: (202) 502-4590.

SUPPLEMENTARY INFORMATION: The United States Sentencing Commission, an independent commission in the judicial branch of the United States government, is authorized by 28 U.S.C. 994(a) to promulgate sentencing guidelines and policy statements for federal courts. Section 994 also directs the Commission to review and revise periodically promulgated guidelines and authorizes it to submit guideline amendments to Congress not later than the first day of May each year. See 28 U.S.C. 994(o), (p). Absent an affirmative disapproval by the Congress within 180 days after the Commission submits its amendments, the amendments become effective on the date specified by the Commission (typically November 1 of the same calendar year). 28 U.S.C. 994(p).

Unlike amendments made to sentencing guidelines, amendments to commentary may be made at any time and are not subject to congressional review. To the extent practicable, the Commission endeavors to include amendments to commentary in any submission of guideline amendments to Congress. Occasionally, however, the Commission determines that technical and conforming changes to commentary are necessary in order to execute correctly the amendments submitted to Congress. This notice sets forth technical and conforming amendments to commentary related to the amendments submitted to Congress on April 29, 2005, that will become effective on November 1, 2005.

Authority: USSC Rules of Practice and Procedure 4.1.

Ricardo H. Hinojosa,
Chair.

1. Amendment

The Commentary to § 2J1.6 captioned “Application Notes” is amended in Note 3 in the second paragraph in the fourth sentence by striking “See § 3D1.1(b)” and inserting “See § 3D1.1(b)(1)”.

The Commentary to § 2K2.1 captioned “Statutory Provisions”, as amended by Amendment 3 submitted to Congress on April 29, 2005, (70 FR 24855.; USSG App. C (amendment 677)), is amended by striking “(e)-(h), (j)-(n)” and inserting “(e)-(i), (k)-(o)”.

The Commentary to § 2P1.2 captioned “Application Notes” is amended in Note 2 in the fourth sentence by striking “See § 3D1.1(b)” and inserting “See § 3D1.1(b)(1)”.

The Commentary to § 3D1.1 captioned “Application Note” is amended in Note 1 in the first paragraph by striking “Subsection (b)” and inserting “Subsection (b)(1)”; in the fourth sentence by striking “subsection (b)” and inserting “subsection (b)(1)”; and in the second paragraph by striking “subsection (b)” and inserting “subsection (b)(1)”.

The Commentary to § 3D1.2 captioned “Application Notes” is amended in Note 1 by striking “See § 3D1.1(b)” and inserting “See § 3D1.1(b)(1)”.

The Commentary to § 5G1.2 captioned “Application Notes”, as amended by Amendment 1 submitted to Congress on April 29, 2005 (70 FR 24852; USSG App. C (amendment 675)), is amended in Note 2 in subdivision (A) by striking “(A) specifies” and inserting “(i) specifies” and by striking “(B) requires” and inserting “(ii) requires”; and in subdivision (B)(ii) by striking “(Multiple Counts)” and inserting “(Groups of Closely Related Counts)”.

Appendix A (Statutory Index), as amended by Amendment 3 submitted to Congress on April 29, 2005, (70 FR 24855; USSG App. C (amendment 677)), is amended by striking the following:

“18 U.S.C. 924(i)(1) 2A1.1, 2A1.2

18 U.S.C. 924(i)(2) 2A1.3, 2A1.4

18 U.S.C. 924(j)-(n) 2K2.1”.

and inserting the following:

“18 U.S.C. 924(i) 2K2.1

18 U.S.C. 924(j)(1) 2A1.1, 2A1.2

18 U.S.C. 924(j)(2) 2A1.3, 2A1.4

18 U.S.C. 924(k)-(o) 2K2.1”.

Reason for Amendment: This amendment makes various technical and conforming changes in order to implement more fully amendments submitted to Congress on April 29, 2005 (70 FR 24852-24856).

[FR Doc. 05-19324 Filed 9-27-05; 8:45 am]

BILLING CODE 2210-01-P